DEPARTMENT OF LABOR

Employment and Training Administration

20 CFR Part 655

Office of Workers' Compensation Programs

20 CFR Parts 702, 725, and 726

Wage and Hour Division

29 CFR Parts 500, 501, 503, 530, 570, 578, 579, 801, and 825

Occupational Safety and Health Administration

29 CFR Part 1903

Employee Benefits Security Administration

29 CFR Part 2560, 2575, and 2590

Mine Safety and Health Administration

30 CFR Part 100

RIN 1290-AA38

Department of Labor Federal Civil Penalties Inflation Adjustment Act Annual Adjustments for 2020

AGENCY: Employment and Training Administration, Office of Workers' Compensation Programs, Office of the Secretary, Wage and Hour Division, Occupational Safety and Health Administration, Employee Benefits Security Administration, and Mine Safety and Health Administration, Department of Labor.

ACTION: Final rule.

SUMMARY: The U.S. Department of Labor (Department) is publishing this final rule to adjust for inflation the civil monetary penalties assessed or enforced by the Department, pursuant to the Federal Civil Penalties Inflation Adjustment Act of 1990 as amended by the Federal Civil Penalties Inflation Adjustment Act Improvements Act of 2015 (Inflation Adjustment Act). The Inflation Adjustment Act requires the Department to annually adjust its civil money penalty levels for inflation no later than January 15 of each year. The Inflation Adjustment Act provides that agencies shall adjust civil monetary penalties notwithstanding Section 553 of the Administrative Procedure Act (APA). Additionally, the Inflation Adjustment Act provides a cost-of-living formula for adjustment of the civil penalties. Accordingly, this final rule sets forth the Department's 2020 annual adjustments for inflation to its civil monetary penalties.

DATES: This final rule is effective on January 15, 2020. As provided by the Inflation Adjustment Act, the increased penalty levels apply to any penalties assessed after January 15, 2020.

FOR FURTHER INFORMATION CONTACT: Erin FitzGerald, Senior Policy Advisor, U.S. Department of Labor, Room S-2312, 200 Constitution Avenue NW, Washington, DC 20210; telephone: (202) 693-5076 (this is not a toll-free number). Copies of this final rule may be obtained in alternative formats (large print, Braille, audio tape or disc), upon request, by calling (202) 693-5959 (this is not a toll-free number). TTY/TDD callers may dial toll-free 1-877-889-5627 to obtain information or request materials in alternative formats.

SUPPLEMENTARY INFORMATION:

Preamble Table of Contents

I. Background

II. Adjustment for 2020

III. Paperwork Reduction Act

IV. Administrative Procedure Act

V. Executive Order 12866: Regulatory Planning and Review, Executive Order 13563: Improving Regulation and Regulatory Review, and Executive Order 13771: Reducing Regulations and Controlling Regulatory Costs

VI. Regulatory Flexibility Act and Small Business Regulatory Enforcement Fairness Act

VII. Other Regulatory Considerations

A. The Unfunded Mandates Reform Act of 1995

B. Executive Order 13132: Federalism

C. Executive Order 13175: Indian Tribal Governments

D. The Treasury and General Government Appropriations Act of 1999: Assessment of Federal Regulations and Policies on Families

E. Executive Order 13045: Protection of Children From Environmental Health Risks and Safety Risks

F. Environmental Impact Assessment

G. Executive Order 13211: Energy Supply

H. Executive Order 12630: Constitutionally Protected Property Rights

I. Executive Order 12988: Civil Justice Reform Analysis

I. Background

On November 2, 2015, Congress enacted the Federal Civil Penalties Inflation Adjustment Act Improvements Act of 2015, Public Law 114-74, 701 (Inflation Adjustment Act), which further amended the Federal Civil Penalties Inflation Adjustment Act of 1990 as previously amended by the 1996 Debt Collection Improvement Act (collectively, the “Prior Inflation Adjustment Act”), to improve the effectiveness of civil monetary penalties and to maintain their deterrent effect. The Inflation Adjustment Act required agencies to: (1) Adjust the level of civil monetary penalties with an initial “catch-up” adjustment through an interim final rule (IFR); and (2) make subsequent annual adjustments for inflation no later than January 15 of each year.

On July 1, 2016, the Department published an IFR that established the initial catch-up adjustment for most civil penalties that the Department administers and requested comments. See 81 FR 43430 (DOL IFR). On January 18, 2017, the Department published the final rule establishing the 2017 Annual Adjustment for those civil monetary penalties adjusted in the DOL IFR. See 82 FR 5373 (DOL 2017 Annual Adjustment). On July 1, 2016, the U.S. Department of Homeland Security (DHS) and the U.S. Department of Labor (DOL) (collectively, “the Departments”) jointly published an IFR that established the initial catch-up adjustment for civil monetary penalties assessed or enforced in connection with the employment of temporary nonimmigrant workers under the H-2B program. See 81 FR 42983 (Joint IFR). On March 17, 2017, the Departments jointly published the final rule establishing the 2017 Annual Adjustment for the H-2B civil monetary penalties. See 82 FR 14147 (Joint 2017 Annual Adjustment). The Joint 2017 Annual Adjustment also explained that DOL would make future adjustments to the H-2B civil monetary penalties consistent with DOL's delegated authority under 8 U.S.C. 1184(c)(14), Immigration and Nationality Act section 214(c)(14), and the Inflation Adjustment Act. See 82 FR 14147-48. On January 2, 2018, the Department published the final rule establishing the 2018 Annual Adjustment for civil monetary penalties assessed or enforced by the Department, including H-2B civil monetary penalties. See 83 FR 7 (DOL 2018 Annual Adjustment). On January 23, 2019, the Department published the final rule establishing the 2019 Annual Adjustment for civil monetary penalties assessed or enforced by the Department, including H-2B civil monetary penalties. See 84 FR 213 (DOL 2019 Annual Adjustment).

This rule implements the 2020 annual inflation adjustments, as required by the Inflation Adjustment Act, for civil monetary penalties assessed or enforced by the Department, including H-2B civil monetary penalties.¹ The Inflation Adjustment Act provides that the increased penalty levels apply to any penalties assessed after the effective date of the increase. Pursuant to the Inflation Adjustment Act, this final rule is published notwithstanding Section 553 of the APA.

¹ The Department is also responsible for administering and enforcing a newly-enacted civil monetary penalty under the Fair Labor Standards Act (see Pub. L. 115-141, section 1201 (2018)) and proposed regulations to codify this civil monetary penalty in the Code of Federal Regulations on October 8, 2019. See Tip Regulations Under the Fair Labor Standards Act (FLSA), 84 FR 53956 (proposed Oct. 8, 2019).

This rule is not an Executive Order 13771 regulatory action because this rule is not significant under Executive Order 12866.

Pursuant to the Congressional Review Act (5 U.S.C. 801 et seq.), the Office of Information and Regulatory Affairs designated this rule as not a `major rule,' as defined by 5 U.S.C. 804(2).

II. Adjustment for 2020

The Department has undertaken a thorough review of civil penalties administered by its various components pursuant to the Inflation Adjustment Act and in accordance with guidance issued by the Office of Management and Budget.²

² M-20-05, Implementation of Penalty Inflation Adjustments for 2020, Pursuant to the Federal Civil Penalties Inflation Adjustment Act Improvements Act of 2015 (Dec. 16, 2019).

The Department first identified the most recent penalty amount, which is the amount established by the 2019 annual adjustment as set forth in the DOL 2019 Annual Adjustment published on January 23, 2019. The Department is required to calculate the annual adjustment based on the Consumer Price Index for all Urban Consumers (CPI-U). Annual inflation adjustments are based on the percent change between the October CPI-U preceding the date of the adjustment, and the prior year's October CPI-U; in this case, the percent change between the October 2019 CPI-U and the October 2018 CPI-U. The cost-of-living adjustment multiplier for 2020, based on the Consumer Price Index (CPI-U) for the month of October 2019, not seasonally adjusted, is 1.01764.³ In order to compute the 2020 annual adjustment, the Department multiplied the most recent penalty amount for each applicable penalty by the multiplier, 1.01764, and rounded to the nearest dollar. This resulted in increases to all but four of the penalties administered by the Department, as set forth in the Appendix.

³ OMB provided the year-over-year multiplier, rounded to 5 decimal points. Id. at 1.

As provided by the Inflation Adjustment Act, the increased penalty levels apply to any penalties assessed after the effective date of this rule.⁴ Accordingly, for penalties assessed after January 15, 2020, whose associated violations occurred after November 2, 2015, the higher penalty amounts outlined in this rule will apply. The tables below demonstrate the penalty amounts that apply:

⁴ Appendix 1 consists of a table that provides ready access to key information about each penalty.

Civil Monetary Penalties for the H-2B Temporary Non-Agricultural Worker Program
Violations occurring | Penalty assessed | Which penalty level applies
On or before November 2, 2015 | On or before August 1, 2016 | Pre-August 1, 2016 levels.
On or before November 2, 2015 | After August 1, 2016 | Pre-August 1, 2016 levels.
After November 2, 2015 | After August 1, 2016, but on or before March 17, 2017 | August 1, 2016 levels.
After November 2, 2015 | After March 17, 2017 but on or before January 2, 2018 | March 17, 2017 levels.
After November 2, 2015 | After January 2, 2018 but on or before January 23, 2019 | January 2, 2018 levels.
After November 2, 2015 | After January 23, 2019 but on or before January 15, 2020 | January 23, 2019 levels.
After November 2, 2015 | After January 15, 2020 | January 15, 2020 levels.

Civil Monetary Penalties for Other DOL Programs
Violations occurring | Penalty assessed | Which penalty level applies
On or before November 2, 2015 | On or before August 1, 2016 | Pre-August 1, 2016 levels.
On or before November 2, 2015 | After August 1, 2016 | Pre-August 1, 2016 levels.
After November 2, 2015 | After August 1, 2016, but on or before January 13, 2017 | August 1, 2016 levels.
After November 2, 2015 | After January 13, 2017 but on or before January 2, 2018 | January 13, 2017 levels.
After November 2, 2015 | After January 2, 2018 but on or before January 23, 2019 | January 2, 2018 levels.
After November 2, 2015 | After January 23, 2019 but on or before January 15, 2020 | January 23, 2019 levels.
After November 2, 2015 | After January 15, 2020 | January 15, 2020 levels.

III. Paperwork Reduction Act

The Paperwork Reduction Act of 1995 (44 U.S.C. 3507(d)) requires that the Department consider the impact of paperwork and other information collection burdens imposed on the public. The Department has determined that this final rule does not require any collection of information.

IV. Administrative Procedure Act

The Inflation Adjustment Act provides that agencies shall annually adjust civil monetary penalties for inflation notwithstanding Section 553 of the APA. Additionally, the Inflation Adjustment Act provides a nondiscretionary cost-of-living formula for annual adjustment of the civil monetary penalties. For these reasons, the requirements in sections 553(b), (c), and (d) of the APA, relating to notice and comment and requiring that a rule be effective 30 days after publication in the Federal Register, are inapplicable.

V. Executive Order 12866: Regulatory Planning and Review and Executive Order 13563: Improving Regulation and Regulatory Review

Executive Order 12866 requires that regulatory agencies assess both the costs and benefits of significant regulatory actions. Under the Executive Order, a “significant regulatory action” is one meeting any of a number of specified conditions, including the following: Having an annual effect on the economy of $100 million or more; creating a serious inconsistency or interfering with an action of another agency; materially altering the budgetary impact of entitlements or the rights of entitlement recipients, or raising novel legal or policy issues.

The Department has determined that this final rule is not a “significant” regulatory action and a cost-benefit and economic analysis is not required. This regulation merely adjusts civil monetary penalties in accordance with inflation as required by the Inflation Adjustment Act, and has no impact on disclosure or compliance costs. The benefit provided by the inflationary adjustment to the maximum civil monetary penalties is that of maintaining the incentive for the regulated community to comply with the laws enforced by the Department, and not allowing the incentive to be diminished by inflation.

Executive Order 13563 directs agencies to assess all costs and benefits of available regulatory alternatives and, if regulation is necessary, to select regulatory approaches that maximize net benefits (including potential economic, environmental, public health and safety effects, distributive impacts, and equity). Executive Order 13563 emphasizes the importance of quantifying both costs and benefits, reducing costs, harmonizing rules, and promoting flexibility to minimize burden.

The Inflation Adjustment Act directed the Department to issue the annual adjustments without regard to Section 553 of the APA. In that context, Congress has already determined that any possible increase in costs is justified by the overall benefits of such adjustments. This final rule makes only the statutory changes outlined herein; thus there are no alternatives or further analysis required by Executive Order 13563.

VI. Regulatory Flexibility Act and Small Business Regulatory Enforcement Fairness Act

The Regulatory Flexibility Act, 5 U.S.C. 601 et seq. (RFA), imposes certain requirements on Federal agency rules that are subject to the notice and comment requirements of the APA, 5 U.S.C. 553(b). This final rule is exempt from the requirements of the APA because the Inflation Adjustment Act directed the Department to issue the annual adjustments without regard to Section 553 of the APA. Therefore, the requirements of the RFA applicable to notices of proposed rulemaking, 5 U.S.C. 603, do not apply to this rule. Accordingly, the Department is not required to either certify that the final rule would not have a significant economic impact on a substantial number of small entities or conduct a regulatory flexibility analysis.

VII. Other Regulatory Considerations

A. The Unfunded Mandates Reform Act of 1995

The Unfunded Mandates Reform Act of 1995, 2 U.S.C. 1531-1538, requires Federal agencies to assess the effects of their discretionary regulatory actions. In particular, the Act addresses actions that may result in the expenditure by a State, local, or Tribal government, in the aggregate, or by the private sector of $100,000,000 (adjusted for inflation) or more in any one year. This Final Rule will not result in such an expenditure. Therefore, no actions were deemed necessary under the provisions of the Unfunded Mandates Reform Act of 1995.

B. Executive Order 13132: Federalism

Section 18 of the Occupational Safety and Health Act of 1970 (OSH Act) (29 U.S.C. 667) requires Occupational Safety and Health Administration (OSHA)-approved State Plans to have standards and an enforcement program that are at least as effective as federal OSHA's standards and enforcement program. OSHA-approved State Plans must have maximum and minimum penalty levels that are at least as effective as federal OSHA's per Section 18(c)(2) of the OSH Act. See also 29 CFR 1902.4(c)(2)(xi); 1902.37(b)(12). State Plans are required to increase their penalties in alignment with OSHA's penalty increases to maintain at least as effective penalty levels.

State Plans are not required to impose monetary penalties on state and local government employers. See § 1956.11(c)(2)(x). Five (5) states and one territory have State Plans that cover only state and local government employees: Connecticut, Illinois, Maine, New Jersey, New York, and the Virgin Islands. Therefore, the requirements to increase the penalty levels do not apply to these State Plans. Twenty-one states and one U.S. territory have State Plans that cover both private sector employees and state and local government employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. They must increase their penalties for private-sector employers.

Other than as listed above, this final rule does not have federalism implications because it does not have substantial direct effects on the states, on the relationship between the national government and the states, or on the distribution of power and responsibilities among the various levels of government. Accordingly, Executive Order 13132, Federalism, requires no further agency action or analysis.

C. Executive Order 13175: Indian Tribal Governments

This final rule does not have “tribal implications” because it does not have substantial direct effects on one or more Indian tribes, on the relationship between the Federal government and Indian tribes, or on the distribution of power and responsibilities between the Federal government and Indian tribes. Accordingly, Executive Order 13175, Consultation and Coordination with Indian Tribal Governments, requires no further agency action or analysis.

D. The Treasury and General Government Appropriations Act of 1999: Assessment of Federal Regulations and Policies on Families

This final rule will have no effect on family well-being or stability, marital commitment, parental rights or authority, or income or poverty of families and children. Accordingly, section 654 of the Treasury and General Government Appropriations Act of 1999 (5 U.S.C. 601 note) requires no further agency action, analysis, or assessment.

E. Executive Order 13045: Protection of Children From Environmental Health Risks and Safety Risks

This final rule will have no adverse impact on children. Accordingly, Executive Order 13045, Protection of Children from Environmental Health Risks and Safety Risks, as amended by Executive Orders 13229 and 13296, requires no further agency action or analysis.

F. Environmental Impact Assessment

A review of this final rule in accordance with the requirements of the National Environmental Policy Act of 1969 (NEPA), 42 U.S.C. 4321 et seq.; the regulations of the Council on Environmental Quality, 40 CFR part 1500 et seq.; and the Departmental NEPA procedures, 29 CFR part 11, indicates that the final rule will not have a significant impact on the quality of the human environment. As a result, there is no corresponding environmental assessment or an environmental impact statement.

G. Executive Order 13211: Energy Supply

This final rule has been reviewed for its impact on the supply, distribution, and use of energy because it applies, in part, to the coal mining and uranium industries. Mine Safety and Health Administration (MSHA) has concluded that the adjustment of civil monetary penalties to keep pace with inflation and thus maintain the incentive for operators to maintain safe and healthful workplaces is not a significant energy action because it is not likely to have a significant adverse effect on the supply, distribution, or use of energy.

This final rule has not been identified to have other impacts on energy supply. Accordingly, Executive Order 13211 requires no further Agency action or analysis.

H. Executive Order 12630: Constitutionally Protected Property Rights

This final rule will not implement a policy with takings implications. Accordingly, Executive Order 12630, Governmental Actions and Interference with Constitutionally Protected Property Rights, requires no further agency action or analysis.

I. Executive Order 12988: Civil Justice Reform Analysis

This final rule was drafted and reviewed in accordance with Executive Order 12988, Civil Justice Reform. This final rule was written to provide a clear legal standard for affected conduct and was carefully reviewed to eliminate drafting errors and ambiguities, so as to minimize litigation and undue burden on the Federal court system. The Department has determined that this final rule meets the applicable standards provided in section 3 of Executive Order 12988.

List of Subjects

20 CFR Part 655

Immigration, Labor, Penalties.

20 CFR Part 702

Administrative practice and procedure, Longshore and harbor workers, Penalties, Reporting and recordkeeping requirements, Workers' compensation.

20 CFR Part 725

Administrative practice and procedure, Black lung benefits, Coal miners, Penalties, Reporting and recordkeeping requirements.

20 CFR Part 726

Administrative practice and procedure, Black lung benefits, Coal miners, Mines, Penalties.

29 CFR Part 500

Administrative practice and procedure, Aliens, Housing, Insurance, Intergovernmental relations, Investigations, Migrant labor, Motor vehicle safety, Occupational safety and health, Penalties, Reporting and recordkeeping requirements, Wages, Whistleblowing.

29 CFR Part 501

Administrative practice and procedure, Agriculture, Aliens, Employment, Housing, Housing standards, Immigration, Labor, Migrant labor, Penalties, Transportation, Wages.

29 CFR Part 503

Administrative practice and procedure, Aliens, Employment, Housing, Immigration, Labor, Penalties, Transportation, Wages.

29 CFR Part 530

Administrative practice and procedure, Clothing, Homeworkers, Indians—arts and crafts, Penalties, Reporting and recordkeeping requirements, Surety bonds, Watches and jewelry.

29 CFR Part 570

Child labor, Law enforcement, Penalties.

29 CFR Part 578

Penalties, Wages.

29 CFR Part 579

Child labor, Penalties.

29 CFR Part 801

Administrative practice and procedure, Employment, Lie detector tests, Penalties, Reporting and recordkeeping requirements.

29 CFR Part 825

Administrative practice and procedure, Airmen, Employee benefit plans, Health, Health insurance, Labor management relations, Maternal and child health, Penalties, Reporting and recordkeeping requirements, Teachers.

29 CFR Part 1903

Intergovernmental relations, Law enforcement, Occupational Safety and Health, Penalties.

29 CFR Part 2560

Employee benefit plans, Employee Retirement Income Security Act, Law enforcement, Penalties, Pensions, Reporting and recordkeeping.

29 CFR Part 2575

Administrative practice and procedure, Employee benefit plans, Employee Retirement Income Security Act, Health care, Penalties, Pensions.

29 CFR Part 2590

Employee benefit plans, Employee Retirement Income Security Act, Health care, Health insurance, Penalties, Pensions, Reporting and recordkeeping.

30 CFR Part 100

Mine safety and health, Penalties.

For the reasons set out in the preamble, 20 CFR chapters V and VI, 29 CFR subtitle A and chapters V, XVII, and XXV, and 30 CFR chapter I are amended as follows.

DEPARTMENT OF LABOR

Employment and Training Administration

Title 20—Employees' Benefits

PART 655—TEMPORARY EMPLOYMENT OF FOREIGN WORKERS IN THE UNITED STATES

1. The authority citation for part 655 continues to read as follows:

Authority: Section 655.0 issued under 8 U.S.C. 1101(a)(15)(E)(iii), 1101(a)(15)(H)(i) and (ii), 8 U.S.C. 1103(a)(6), 1182(m), (n) and (t), 1184(c), (g), and (j), 1188, and 1288(c) and (d); sec. 3(c)(1), Pub. L. 101-238, 103 Stat. 2099, 2102 (8 U.S.C. 1182 note); sec. 221(a), Pub. L. 101-649, 104 Stat. 4978, 5027 (8 U.S.C. 1184 note); sec. 303(a)(8), Pub. L. 102-232, 105 Stat. 1733, 1748 (8 U.S.C. 1101 note); sec. 323(c), Pub. L. 103-206, 107 Stat. 2428; sec. 412(e), Pub. L. 105-277, 112 Stat. 2681 (8 U.S.C. 1182 note); sec. 2(d), Pub. L. 106-95, 113 Stat. 1312, 1316 (8 U.S.C. 1182 note); 29 U.S.C. 49k; Pub. L. 107-296, 116 Stat. 2135, as amended; Pub. L. 109-423, 120 Stat. 2900; 8 CFR 214.2(h)(4)(i); and 8 CFR 214.2(h)(6)(iii); and sec. 6, Pub. L. 115-128, 132 Stat. 1547 (48 U.S.C. 1806).

Subpart A issued under 8 CFR 214.2(h).

Subpart B issued under 8 U.S.C. 1101(a)(15)(H)(ii)(a), 1184(c), and 1188; and 8 CFR 214.2(h).

Subpart E issued under 48 U.S.C. 1806.

Subparts F and G issued under 8 U.S.C. 1288(c) and (d); sec. 323(c), Pub. L. 103-206, 107 Stat. 2428; and 28 U.S.C. 2461 note, Pub. L. 114-74 at section 701.

Subparts H and I issued under 8 U.S.C. 1101(a)(15)(H)(i)(b) and (b)(1), 1182(n) and (t), and 1184(g) and (j); sec. 303(a)(8), Pub. L. 102-232, 105 Stat. 1733, 1748 (8 U.S.C. 1101 note); sec. 412(e), Pub. L. 105-277, 112 Stat. 2681; 8 CFR 214.2(h); and 28 U.S.C. 2461 note, Pub. L. 114-74 at section 701.

Subparts L and M issued under 8 U.S.C. 1101(a)(15)(H)(i)(c) and 1182(m); sec. 2(d), Pub. L. 106-95, 113 Stat. 1312, 1316 (8 U.S.C. 1182 note); Pub. L. 109-423, 120 Stat. 2900; and 8 CFR 214.2(h).

§ § 655.620, 655.801, and 655.810 [Amended]

2. In the following table, for each paragraph indicated in the left column, remove the dollar amount indicated in the middle column from wherever it appears in the paragraph and add in its place the dollar amount indicated in the right column.

Paragraph | Remove | Add
§ 655.620(a) | $9,472 | $9,639
§ 655.801(b) | 7,710 | 7,846
§ 655.810(b)(1) introductory text | 1,895 | 1,928
§ 655.810(b)(2) introductory text | 7,710 | 7,846
§ 655.810(b)(3) introductory text | 53,969 | 54,921

DEPARTMENT OF LABOR

Office of Workers' Compensation Programs

PART 702—ADMINISTRATION AND PROCEDURE

3. The authority citation for part 702 continues to read as follows:

Authority: 5 U.S.C. 301, and 8171 et seq.; 33 U.S.C. 901 et seq.; 42 U.S.C. 1651 et seq.; 43 U.S.C. 1333; 28 U.S.C. 2461 note (Federal Civil Penalties Inflation Adjustment Act of 1990); Pub. L. 114-74 at sec. 701; Reorganization Plan No. 6 of 1950, 15 FR 3174, 64 Stat. 1263; Secretary's Order 10-2009, 74 FR 58834.

§ § 702.204, 702.236, and 702.271 [Amended]

4. In the following table, for each paragraph indicated in the left column, remove the dollar amount or date indicated in the middle column from wherever it appears in the section or paragraph and add in its place the dollar amount or date indicated in the right column.

Section/paragraph | Remove | Add
§ 702.204 | $24,017 | $24,441.
§ 702.204 | January 23, 2019 | January 15, 2020.
§ 702.236 | $292 | $297.
§ 702.236 | January 23, 2019 | January 15, 2020.
§ 702.271(a)(2) | January 23, 2019 | January 15, 2020.
§ 702.271(a)(2) | $2,402 | $2,444.
§ 702.271(a)(2) | $12,007 | $12,219.

PART 725—CLAIMS FOR BENEFITS UNDER PART C OF TITLE IV OF THE FEDERAL MINE SAFETY AND HEALTH ACT, AS AMENDED

5. The authority citation for part 725 continues to read as follows:

Authority: 5 U.S.C. 301; 28 U.S.C. 2461 note (Federal Civil Penalties Inflation Adjustment Act of 1990); Pub. L. 114-74 at sec. 701; Reorganization Plan No. 6 of 1950, 15 FR 3174; 30 U.S.C. 901 et seq., 902(f), 921, 932, 936; 30 U.S.C. 901 et seq.; 42 U.S.C. 405; Secretary's Order 10-2009, 74 FR 58834.

§ 725.621 [Amended]

6. In § 725.621, amend paragraph (d) by removing “January 23, 2019” and adding in its place “January 15, 2020” and by removing “$1,462” and adding in its place “$1,488”.

PART 726—BLACK LUNG BENEFITS; REQUIREMENTS FOR COAL MINE OPERATOR'S INSURANCE

7. The authority citation for part 726 continues to read as follows:

Authority: 5 U.S.C. 301; 30 U.S.C. 901 et seq., 902(f), 925, 932, 933, 934, 936; 33 U.S.C. 901 et seq.; 28 U.S.C. 2461 note (Federal Civil Penalties Inflation Adjustment Act of 1990); Pub. L. 114-74 at sec. 701; Reorganization Plan No. 6 of 1950, 15 FR 3174; Secretary's Order 10-2009, 74 FR 58834.

§ 726.302 [Amended]

8. In the following table, for each paragraph indicated in the left column, remove the dollar amount or date indicated in the middle column from wherever it appears in the paragraph and add in its place the dollar amount or date indicated in the right column.

Paragraph | Remove | Add
§ 726.302(c)(2)(i) table Introductory text | January 23, 2019 | January 15, 2020.
§ 726.302(c)(2)(i) table | $143 | $146.
§ 726.302(c)(2)(i) table | 285 | 290.
§ 726.302(c)(2)(i) table | 428 | 436.
§ 726.302(c)(2)(i) table | 569 | 579.
§ 726.302(c)(4) | January 23, 2019 | January 15, 2020.
§ 726.302(c)(4) | $143 | $146.
§ 726.302(c)(5) | January 23, 2019 | January 15, 2020.
§ 726.302(c)(5) | $428 | $436.
§ 726.302(c)(6) | January 23, 2019 | January 15, 2020.
§ 726.302(c)(6) | $2,924 | $2,976.

DEPARTMENT OF LABOR

Wage and Hour Division

Title 29—Labor

PART 500—MIGRANT AND SEASONAL AGRICULTURAL WORKER PROTECTION

9. The authority citation for part 500 continues to read as follows:

Authority: Pub. L. 97-470, 96 Stat. 2583 (29 U.S.C. 1801-1872); Secretary's Order No. 01-2014 (Dec. 19, 2014), 79 FR 77527 (Dec. 24, 2014); 28 U.S.C. 2461 note (Federal Civil Penalties Inflation Adjustment Act of 1990); and Pub. L. 114-74, 129 Stat 584.

§ 500.1 [Amended]

10. In § 500.1, amend paragraph (e) by removing “$2,505” and adding in its place “$2,549”.

PART 501—ENFORCEMENT OF CONTRACTUAL OBLIGATIONS FOR TEMPORARY ALIEN AGRICULTURAL WORKERS ADMITTED UNDER SECTION 218 OF THE IMMIGRATION AND NATIONALITY ACT

11. The authority citation for part 501 continues to read as follows:

Authority: 8 U.S.C. 1101(a)(15)(H)(ii)(a), 1184(c), and 1188; 28 U.S.C. 2461 note (Federal Civil Penalties Inflation Adjustment Act of 1990); and Pub. L. 114-74 at § 701.

§ 501.19 [Amended]

12. In the following table, for each paragraph indicated in the left column, remove the dollar amount indicated in the middle column from wherever it appears in the paragraph and add in its place the dollar amount indicated in the right column.

Paragraph | Remove | Add
§ 501.19(c) introductory text | $1,735 | $1,766
§ 501.19(c)(1) | 5,839 | 5,942
§ 501.19(c)(2) | 57,813 | 58,833
§ 501.19(c)(4) | 115,624 | 117,664
§ 501.19(d) | 5,839 | 5,942
§ 501.19(e) | 17,344 | 17,650
§ 501.19(f) | 17,344 | 17,650

PART 503—ENFORCEMENT OF OBLIGATIONS FOR TEMPORARY NONIMMIGRANT NON-AGRICULTURAL WORKERS DESCRIBED IN THE IMMIGRATION AND NATIONALITY ACT

13. The authority citation for part 503 continues to read as follows:

Authority: 8 U.S.C. 1101(a)(15)(H)(ii)(b); 8 U.S.C. 1184; 8 CFR 214.2(h); 28 U.S.C. 2461 note (Federal Civil Penalties Inflation Adjustment Act of 1990); Pub. L. 114-74 at § 701.

§ 503.23 [Amended]

14. In the following table, for each paragraph indicated in the left column, remove the dollar amount indicated in the middle column from wherever it appears in the paragraph, and add in its place the dollar amount indicated in the right column:

Paragraph | Remove | Add
§ 503.23(b) | $12,695 | $12,919
§ 503.23(c) | 12,695 | 12,919
§ 503.23(d) | 12,695 | 12,919

PART 530—EMPLOYMENT OF HOMEWORKERS IN CERTAIN INDUSTRIES

15. The authority citation for part 530 continues to read as follows:

Authority: Sec. 11, 52 Stat. 1066 (29 U.S.C. 211) as amended by sec. 9, 63 Stat. 910 (29 U.S.C. 211(d)); Secretary's Order No. 01-2014 (Dec. 19, 2014), 79 FR 77527 (Dec. 24, 2014); 28 U.S.C. 2461 note (Federal Civil Penalties Inflation Adjustment Act of 1990); Pub. L. 114-74 at sec. 701, 129 Stat 584.

16. In § 530.302, amend paragraph (a) by removing “$1,052” and adding in its place “$1,071” and revise paragraph (b).

The revision reads as follows:

§ 530.302 Amounts of civil penalties.

* * * * *

(b) The amount of civil money penalties shall be determined per affected homeworker within the limits set forth in the following schedule, except that no penalty shall be assessed in the case of violations which are deemed to be de minimis in nature:

Nature of violation | Penalty per affected homeworker: Minor | Penalty per affected homeworker: Substantial | Penalty per affected homeworker: Repeated, intentional or knowing
Recordkeeping | $21-214 | $214-428 | $428-1,071
Monetary violations | 21-214 | 214-428 |
Employment of homeworkers without a certificate |  | 214-428 | 428-1,071
Other violations of statutes, regulations or employer assurances | 21-214 | 214-428 | 428-1,071

PART 570—CHILD LABOR REGULATIONS, ORDERS AND STATEMENTS OF INTERPRETATION

17. The authority citation for subpart G of part 570 continues to read as follows:

Authority: 52 Stat. 1060-1069, as amended; 29 U.S.C. 201-219; 28 U.S.C. 2461 note (Federal Civil Penalties Inflation Adjustment Act of 1990); Pub. L. 114-74 at § 701.

§ 570.140 [Amended]

18. In § 570.140, amend paragraph (b)(1) by removing “$12,845” and adding in its place “$13,072” and paragraph (b)(2) by removing “$58,383” and adding in its place “$59,413”.

PART 578—MINIMUM WAGE AND OVERTIME VIOLATIONS—CIVIL MONEY PENALTIES

19. The authority citation for part 578 continues to read as follows:

Authority: Sec. 9, Pub. L. 101-157, 103 Stat. 938, sec. 3103, Pub. L. 101-508, 104 Stat. 1388-29 (29 U.S.C. 216(e)), Pub. L. 101-410, 104 Stat. 890 (28 U.S.C. 2461 note), as amended by Pub. L. 104-134, section 31001(s), 110 Stat. 1321-358, 1321-373, and Pub. L. 114-74, 129 Stat 584.

§ 578.3 [Amended]

20. In § 578.3, amend paragraph (a) by removing “$2,014” and adding in its place “$2,050”.

PART 579—CHILD LABOR VIOLATIONS—CIVIL MONEY PENALTIES

21. The authority citation for part 579 continues to read as follows:

Authority: 29 U.S.C. 203(l), 211, 212, 213(c), 216; Reorg. Plan No. 6 of 1950, 64 Stat. 1263, 5 U.S.C. App; secs. 25, 29, 88 Stat. 72, 76; Secretary of Labor's Order No. 01-2014 (Dec. 19, 2014), 79 FR 77527 (Dec. 24, 2014); 28 U.S.C. 2461 note (Federal Civil Penalties Inflation Adjustment Act of 1990); and Pub. L. 114-7, 129 Stat 584.

§ 579.1 [Amended]

22. In the following table, for each paragraph indicated in the left column, remove the dollar amount indicated in the middle column from wherever it appears in the paragraph and add in its place the dollar amount indicated in the right column.

Paragraph | Remove | Add
§ 579.1(a)(1)(i)(A) | $12,845 | $13,072
§ 579.1(a)(1)(i)(B) | 58,383 | 59,413
§ 579.1(a)(2) | 2,014 | 2,050

PART 801—APPLICATION OF THE EMPLOYEE POLYGRAPH PROTECTION ACT OF 1988

23. The authority citation for part 801 continues to read as follows:

Authority: Pub. L. 100-347, 102 Stat. 646, 29 U.S.C. 2001-2009; 28 U.S.C. 2461 note (Federal Civil Penalties Inflation Adjustment Act of 1990); Pub. L. 114-74 at sec. 701, 129 Stat 584.

§ 801.42 [Amended]

24. In § 801.42 amend paragraph (a) introductory text by removing “$21,039” and adding in its place “$21,410”.

PART 825—THE FAMILY AND MEDICAL LEAVE ACT OF 1993

25. The authority citation for part 825 continues to read as follows:

Authority: 29 U.S.C. 2654; 28 U.S.C. 2461 note (Federal Civil Penalties Inflation Adjustment Act of 1990); and Pub. L. 114-74 at sec. 701.

§ 825.300 [Amended]

26. In § 825.300 amend paragraph (a)(1) by removing “$173” and adding in its place “$176”.

DEPARTMENT OF LABOR

Occupational Safety and Health Administration

Title 29—Labor

PART 1903—INSPECTIONS, CITATIONS, AND PROPOSED PENALTIES

27. The authority citation for part 1903 continues to read as follows:

Authority: Secs. 8 and 9 of the Occupational Safety and Health Act of 1970 (29 U.S.C. 657, 658); 5 U.S.C. 553; 28 U.S.C. 2461 note (Federal Civil Penalties Inflation Adjustment Act of 1990), as amended by Section 701, Pub. L. 114-74; Secretary of Labor's Order No. 1-2012 (77 FR 3912, Jan. 25, 2012).

§ 1903.15 [Amended]

28. In the following table, for each paragraph indicated in the left column, remove the dollar amount or date indicated in the middle column from wherever it appears in the paragraph and add in its place the dollar amount or date indicated in the right column.

Paragraph | Remove | Add
§ 1903.15(d) introductory text | January 23, 2019 | January 15, 2020.
§ 1903.15(d)(1) | $9,472 | $9,639.
§ 1903.15(d)(1) | $132,598 | $134,937.
§ 1903.15(d)(2) | $132,598 | $134,937.
§ 1903.15(d)(3) | $13,260 | $13,494.
§ 1903.15(d)(4) | $13,260 | $13,494.
§ 1903.15(d)(5) | $13,260 | $13,494.
§ 1903.15(d)(6) | $13,260 | $13,494.

DEPARTMENT OF LABOR

Mine Safety and Health Administration

Title 30—Mineral Resources

PART 100—CRITERIA AND PROCEDURES FOR PROPOSED ASSESSMENT OF CIVIL PENALTIES

29. The authority citation for part 100 continues to read as follows:

Authority: 5 U.S.C. 301; 30 U.S.C. 815, 820, 957; 28 U.S.C. 2461 note (Federal Civil Penalties Inflation Adjustment Act of 1990); Pub. L. 114-74 at sec. 701.

30. In § 100.3, amend paragraph (a)(1) introductory text by removing “72,620” and adding in its place “73,901” and in paragraph (g) by revising Table XIV—Penalty Conversion Table.

The revision reads as follows:

§ 100.3 Determination of penalty amount; regular assessment.

* * * * *

(g) * * *

Table XIV—Penalty Conversion Table
Points | Penalty ($)
60 or fewer | 137
61 | 150
62 | 161
63 | 175
64 | 190
65 | 206
66 | 222
67 | 242
68 | 261
69 | 283
70 | 306
71 | 332
72 | 361
73 | 390
74 | 421
75 | 458
76 | 498
77 | 536
78 | 582
79 | 631
80 | 684
81 | 740
82 | 801
83 | 869
84 | 941
85 | 1,021
86 | 1,105
87 | 1,196
88 | 1,296
89 | 1,404
90 | 1,521
91 | 1,648
92 | 1,784
93 | 1,932
94 | 2,094
95 | 2,268
96 | 2,457
97 | 2,661
98 | 2,884
99 | 3,124
100 | 3,385
101 | 3,666
102 | 3,971
103 | 4,302
104 | 4,660
105 | 5,049
106 | 5,469
107 | 5,925
108 | 6,418
109 | 6,953
110 | 7,532
111 | 8,157
112 | 8,839
113 | 9,575
114 | 10,373
115 | 11,236
116 | 12,171
117 | 13,186
118 | 14,284
119 | 15,474
120 | 16,762
121 | 18,159
122 | 19,670
123 | 21,309
124 | 23,085
125 | 25,004
126 | 27,089
127 | 29,346
128 | 31,789
129 | 34,437
130 | 37,306
131 | 40,413
132 | 43,778
133 | 47,423
134 | 51,207
135 | 54,988
136 | 58,773
137 | 62,553
138 | 66,337
139 | 70,118
140 or more | 73,901

* * * * *

§§ 100.4 and 100.5 [Amended]

31. In the following table, for each paragraph indicated in the left column, remove the dollar amount indicated in the middle column from wherever it appears in the paragraph, and add in its place the dollar amount indicated in the right column.

Paragraph | Remove | Add
§ 100.4(a) | $2,421 | $2,464
§ 100.4(b) | 4,840 | 4,925
§ 100.4(c) introductory text | 6,052 | 6,159
§ 100.4(c) introductory text | 72,620 | 73,901
§ 100.5(c) | 7,867 | 8,006
§ 100.5(d) | 332 | 338
§ 100.5(e) | 266,275 | 270,972

Note: The following Appendix will not appear in the Code of Federal Regulations.

Agency | Law | Name/description | CFR citation | 2019: Min penalty (rounded to nearest dollar) | 2019: Max penalty (rounded to nearest dollar) | 2020: Min penalty (rounded to nearest dollar) | 2020: Max penalty (rounded to nearest dollar)
MSHA | Federal Mine Safety & Health Act of 1977 | Regular Assessment | 30 CFR 100.3(a) |  | $72,620 |  | $73,901
MSHA | Federal Mine Safety & Health Act of 1977 | Penalty Conversion Table | 30 CFR 100.3(g) | $135 | $72,620 | $137 | $73,901
MSHA | Federal Mine Safety & Health Act of 1977 | Minimum Penalty for any order issued under 104(d)(1) of the Mine Act | 30 CFR 100.4(a) | 2,421 |  | $2,464 |
MSHA | Federal Mine Safety & Health Act of 1977 | Minimum penalty for any order issued under 104(d)(2) of the Mine Act | 30 CFR 100.4(b) | 4,840 |  | $4,925 |
MSHA | Federal Mine Safety & Health Act of 1977 | Penalty for failure to provide timely notification under 103(j) of the Mine Act | 39 CFR 100.4(c) | 6,052 | $72,620 | $6,159 | $73,901
MSHA | Federal Mine Safety & Health Act of 1977 | Any operator who fails to correct a violation for which a citation or order was issued under 104(a) of the Mine Act | 30 CFR 100.5(c) |  | $7,867 |  | $8,006
MSHA | Federal Mine Safety & Health Act of 1977 | Violation of mandatory safety standards related to smoking standards | 30 CFR 100.5(d) |  | $332 |  | $338
MSHA | Federal Mine Safety & Health Act of 1977 | Flagrant violations under 110(b)(2) of the Mine Act | 30 CFR 100.5(e) |  | $266,275 |  | $270,972
EBSA | Employee Retirement Income Security Act | Section 209(b): Per plan year for failure to furnish reports (e.g., pension benefit statements) to certain former employees or maintain employee records each employee a separate violation. | 29 CFR 2575.1-3 |  | $30 |  | $31
EBSA | Employee Retirement Income Security Act | Section 502(c)(2)—Per day for failure/refusal to properly file plan annual report | 29 CFR 2575.1-3 |  | $2,194 |  | $2,233
EBSA | Employee Retirement Income Security Act | Section 502(c)(4)—Per day for failure to disclose certain documents upon request under ERISA 101(k) and (l); failure to furnish notices under 101(j) and 514(e)(3)—each statutory recipient a separate violation | 29 CFR 2575.1-3 |  | $1,736 |  | $1,767
EBSA | Employee Retirement Income Security Act | Section 502(c)(5)—Per day for each failure to file annual report for Multiple Employer Welfare Arrangements (MEWAs) under 101(g) | 29 CFR 2575.1-3 |  | $1,597 |  | $1,625
EBSA | Employee Retirement Income Security Act | Section 502 (c)(6)—Per day for each failure to provide Secretary of Labor requested documentation not to exceed a per-request maximum | 29 CFR 2575.1-3 |  | $156 per day, not to exceed $1,566 per request |  | $159 per day, not to exceed $1,594 per request.
EBSA | Employee Retirement Income Security Act | Section 502 (c)(7)—Per day for each failure to provide notices of blackout periods and of right to divest employer securities- each statutory recipient a separate violation | 29 CFR 2575.1-3 |  | $139 |  | $141
EBSA | Employee Retirement Income Security Act | Section 502 (c)(8)—Per each failure by an endangered status multiemployer plan to adopt a funding improvement plan or meet benchmarks; or failure of a critical status multiemployer plan to adopt a rehabilitation plan | 29 CFR 2575.1-3 |  | $1,378 |  | $1,402
EBSA | Employee Retirement Income Security Act | Section 502(c)(9)(A)—Per day for each failure by an employer to inform employees of CHIP coverage opportunities under Section 701(f)(3)(B)(i)(l)—each employee a separate violation | 29 CFR 2575.1-3 |  | $117 |  | $119
EBSA | Employee Retirement Income Security Act | Section 502(c)(9)(B)—Per day for each failure by a plan to timely provide to any State information required to be disclosed under Section 701(f)(3)(B)(ii), as added by CHIP regarding coverage coordination—each participant/beneficiary a separate violation | 29 CFR 2575.1-3 |  | $117 |  | $119
EBSA | Employee Retirement Income Security Act | Section 502(c)(10)—Failure by any plan sponsor of group health plan, or any health insurance issuer offering health insurance coverage in connection with the plan, to meet the requirements of Sections 702(a)(1)(F), (b)(3), (c) or (d); or Section 701; or Section 702(b)(1) with respect to genetic information—daily per participant and beneficiary during non-compliance period | 29 CFR 2575.1-3 |  | $117 |  | $119
EBSA | Employee Retirement Income Security Act | Section 502(c)(10)—uncorrected de minimis violation | 29 CFR 2575.1-3 | $2,919 |  | $2,970 |
EBSA | Employee Retirement Income Security Act | Section 502(c)(10)—uncorrected violations that are not de minimis | 29 CFR 2575.1-3 | $17,515 |  | $17,824 |
EBSA | Employee Retirement Income Security Act | Section 502(c)(10)—unintentional failure maximum cap | 29 CFR 2575.1-3 |  | $583,830 |  | $594,129
EBSA | Employee Retirement Income Security Act | Section 502(c)(12)—Per day for each failure of a CSEC plan in restoration status to adopt a restoration plan | 29CFR 2575.1-3 |  | $107 |  | $109
EBSA | Employee Retirement Income Security Act | Section 502 (m)—Failure of fiduciary to make a proper distribution from a defined benefit plan under section 206(e) of ERISA | 29 CFR 2575.1-3 |  | $16,915 |  | $17,213
EBSA | Employee Retirement Income Security Act | Failure to provide Summary of Benefits Coverage under PHS Act section 2715(f), as incorporated in ERISA section 715 and 29 CFR 2590.715-2715(e) | 29 CFR 2575.1-3 |  | $1,156 |  | $1,176
OSHA | Occupational Safety and Health Act | Serious Violation | 29 CFR 1903.15(d)(3) |  | $13,260 |  | $13,494
OSHA | Occupational Safety and Health Act | Other-Than-Serious | 29 CFR 1903.15(d)(4) |  | $13,260 |  | $13,494
OSHA | Occupational Safety and Health Act | Willful | 29 CFR 1903.15(d)(1) | 9,472 | $132,598 | $9,639 | $134,937
OSHA | Occupational Safety and Health Act | Repeated | 29 CFR 1903.15(d)(2) |  | $132,598 |  | $134,937
OSHA | Occupational Safety and Health Act | Posting Requirement | 29 CFR 1903.15(d)(6) |  | $13,260 |  | $13,494
OSHA | Occupational Safety and Health Act | Failure to Abate | 29 CFR 1903.15(d)(5) |  | $13,260 per day |  | $13,494 per day.
WHD | Family and Medical Leave Act | FMLA | 29 CFR 825.300(a)(1) |  | $173 |  | $176
WHD | Fair Labor Standards Act | FLSA | 29 CFR 578.3(a) |  | $2,014 |  | $2,050
WHD | Fair Labor Standards Act | Child Labor | 29 CFR 579.1(a)(2) |  | $2,014 |  | $2,050
WHD | Fair Labor Standards Act | Child Labor | 29 CFR 570.140(b)(1) |  | $12,845 |  | $13,072
WHD | Fair Labor Standards Act | Child Labor | 29 CFR 579.1(a)(1)(i)(A) |  | $12,845 |  | $13,072
WHD | Fair Labor Standards Act | Child Labor that causes serious injury or death | 29 CFR 570.140(b)(2) |  | $58,383 |  | $59,413
WHD | Fair Labor Standards Act | Child Labor that causes serious injury or death | 29 CFR 579.1(a)(1)(i)(B) |  | $58,383 |  | $59,413
WHD | Fair Labor Standards Act | Child Labor willful or repeated that causes serious injury or death (penalty amount doubled) | 29 CFR 570.140(b)(2); 29 CFR 579.1(a)(1)(i)(B) Doubled |  | $116,766 |  | $118,826
WHD | Migrant and Seasonal Agricultural Worker Protection Act | MSPA | 29 CFR 500.1(e) |  | $2,505 |  | $2,549
WHD | Immigration & Nationality Act | H1B | 20 CFR 655.810(b)(1) |  | $1,895 |  | $1,928
WHD | Immigration & Nationality Act | H1B retaliation | 20 CFR 655.801(b) |  | $7,710 |  | $7,846
WHD | Immigration & Nationality Act | H1B willful or discrimination | 20 CFR 655.810(b)(2) |  | $7,710 |  | $7,846
WHD | Immigration & Nationality Act | H1B willful that resulted in displacement of a US worker | 20 CFR 655.810(b)(3) |  | $53,969 |  | $54,921
WHD | Immigration & Nationality Act | D-1 | 20 CFR 655.620(a) |  | $9,472 |  | $9,639
WHD | Contract Work Hours and Safety Standards Act | CWHSSA | 29 CFR 5.5(b)(2) |  | $27 |  | $27
WHD | Contract Work Hours and Safety Standards Act | CWHSSA | 29 CFR 5.8(a) |  | $27 |  | $27
WHD | Walsh-Healey Public Contracts Act | Walsh-Healey | 41 CFR 50-201.3(e) |  | $27 |  | $27
WHD | Employee Polygraph Protection Act | EPPA | 29 CFR 801.42(a) |  | $21,039 |  | $21,410
WHD | Immigration & Nationality Act | H2A | 29 CFR 501.19(c) |  | $1,735 |  | $1,766
WHD | Immigration & Nationality Act | H2A willful or discrimination | 29 CFR 501.19(c)(1) |  | $5,839 |  | $5,942
WHD | Immigration & Nationality Act | H2A Safety or health resulting in serious injury or death | 29 CFR 501.19(c)(2) |  | $57,813 |  | $58,833
WHD | Immigration & Nationality Act | H2A willful or repeated safety or health resulting in serious injury or death | 29 CFR 501.19(c)(4) |  | $115,624 |  | $117,664
WHD | Immigration & Nationality Act | H2A failing to cooperate in an investigation | 29 CFR 501.19(d) |  | $5,839 |  | $5,942
WHD | Immigration & Nationality Act | H2A displacing a US worker | 29 CFR 501.19(e) |  | $17,344 |  | $17,650
WHD | Immigration & Nationality Act | H2A improperly rejecting a US worker | 29 CFR 501.19(f) |  | $17,344 |  | $17,650
WHD | Immigration & Nationality Act | H-2B | 29 CFR 503.23(b) |  | $12,695 |  | $12,919
WHD | Immigration & Nationality Act | H-2B | 29 CFR 503.23(c) |  | $12,695 |  | $12,919
WHD | Immigration & Nationality Act | H-2B | 29 CFR 503.23(d) |  | $12,695 |  | $12,919
WHD | Fair Labor Standards Act | Home Worker | 29 CFR 530.302(a) |  | $1,052.00 |  | $1,071
WHD | Fair Labor Standards Act | Home Worker | 29 CFR 530.302(b) | 21 | $1,052.00 | $21 | $1,071
OWCP | Longshore and Harbor Workers' Compensation Act | Failure to file first report of injury or filing a false statement or misrepresentation in first report | 20 CFR 702.204 |  | $24,017 |  | $24,441
OWCP | Longshore and Harbor Workers' Compensation Act | Failure to report termination of payments | 20 CFR 702.236 |  | $292 |  | $297
OWCP | Longshore and Harbor Workers' Compensation Act | Discrimination against employees who claim compensation or testify in a LHWCA proceeding | 20 CFR 702.271(a)(2) | 2,402 | $12,007 | $2,444 | $12,219
OWCP | Black Lung Benefits Act | Failure to report termination of payments | 20 CFR 725.621 (d) |  | $1,462 |  | $1,488
OWCP | Black Lung Benefits Act | Failure to file required reports | 20 CFR 725.621(d) |  | $1,462 |  | $1,488
OWCP | Black Lung Benefits Act | Failure to secure payment of benefits for mines with fewer than 25 employees | 20 CFR 726.302(c)(2)(i) | 143 |  | $146 |
OWCP | Black Lung Benefits Act | Failure to secure payment of benefits for mines with 25-50 employees | 20 CFR 726.302(c)(2)(i) | 285 |  | $290 |
OWCP | Black Lung Benefits Act | Failure to secure payment of benefits for mines with 51-100 employees | 20 CFR 726.302(c)(2)(i) | 428 |  | $436 |
OWCP | Black Lung Benefits Act | Failure to secure payment of benefits for mines with more than 100 employees | 20 CFR 726.302(c)(2)(i) | 569 |  | $579 |
OWCP | Black Lung Benefits Act | Failure to secure payment of benefits after 10th day of notice | 20 CFR 726.302(c)(4) | 143 |  | $146 |
OWCP | Black Lung Benefits Act | Failure to secure payment of benefits for repeat offenders | 20 CFR 726.302(c)(5) | 428 |  | $436 |
OWCP | Black Lung Benefits Act | Failure to secure payment of benefits | 20 CFR 726.302(c)(5) |  | $2,924 |  | $2,976

Signed at Washington, DC, this 9th day of January, 2020.
Eugene Scalia,
Secretary, U.S. Department of Labor.

[FR Doc. 2020-00486 Filed 1-14-20; 8:45 am]

BILLING CODE 4510-HL-P